DEPARTMENT OF AGRICULTURE

Farm Service Agency

Information Collection: Emergency Conservation Program

AGENCY: Farm Service Agency, USDA.

ACTION: Notice; request for comments.

SUMMARY: In accordance with the Paperwork Reduction Act of 1995, the Farm Service Agency (FSA) is seeking comments from all interested individuals and organizations on the revision of currently approved information collection associated with the Emergency Conservation Program (ECP).

DATES: Comments on this notice must be received on or before September 24, 2007 to be assured consideration.

ADDRESSES: We invite you to submit comments on this Notice. In your comment, include the volume, date, and page number of this issue of the Federal Register. You may submit comments by any of the following methods:

E-mail: Send comments to: Clayton.Furukawa@wdc.usda.gov.

Fax: (202) 720-4619.

Mail: Farm Service Agency, USDA, Attn: Clayton Furukawa, ECP Program Manager, Conservation and Environmental Programs Division, USDA, FSA, STOP 0513, 1400 Independence Avenue, SW., Washington, DC 20250-0513.

Comments also should be sent to the Desk Officer for Agriculture, Office of Information and Regulatory Affairs, Office of Management and Budget, Washington, DC 20503.

FOR FURTHER INFORMATION CONTACT: Clayton Furukawa, ECP Program Manager, (202) 690-0571.

SUPPLEMENTARY INFORMATION:

Description of Information Collection

Title: Emergency Conservation Program.

OMB Control Number: 0560-0082.

Expiration Date: February 28, 2010.

Type of Request: Revision of a Currently Approved Information Collection.

Abstract: This information collection is to allow FSA to effectively administer the regulations under the ECP. The regulations at 7 CFR part 701 set forth basic policies, program provisions, and eligibility requirements for owners and operators to enter into agreement with to apply for financial and technical assistance and for receiving cost-share payments under the ECP. The revision to the currently approved information collection is in response to, and consistent with, the new requirement that an Adjusted Gross Income Limitation be used when determining the eligibility of certain respondents who wish to participate in the ECP, pursuant to the provisions of Section 9004(b) of Public Law 110-28.

Estimate of Burden: Public reporting burden for this collection of information is estimated to average .25 hours (15 minutes) per response. The average travel time, which is included in the total annual burden, is estimated to be 1 hour per respondent.

Respondents: Owners, operators and other eligible agricultural producers on eligible farmland.

Number of Respondents: 90,000.

Estimated Annual Number of Respondents: 90,420.

Estimated Number of Responses per Respondent: 1.

Estimated Total Annual Burden on Respondents: 67,610.

Comments

Comments are invited on:

(1) Whether this collection information is necessary for the proper performance of the functions of the agency, including whether the information will have practical utility;

(2) The accuracy of the agency's estimate of burden, including the validity of the methodology and assumptions used;

(3) Ways to enhance the quality, utility, and clarity of the information to be collected; and

(4) Ways to minimize the burden of the collection of the information on those who are to respond, including the use of appropriate automated, electronic, mechanical, or other technological collection techniques or other forms of information technology.

All comments received in response to this notice, including names and addresses when provided, will be a matter of public records. Comments will be summarized and included in the submission for Office of Management and Budget approval.

Signed at Washington, DC, on July 19, 2007.
Glen L. Keppy,
Acting Administrator, Farm Service Agency.

[FR Doc. E7-14385 Filed 7-25-07; 8:45 am]

BILLING CODE 3410-05-P